NUCLEAR REGULATORY COMMISSION

Draft U.S. Nuclear Regulatory Commission FY 2007-FY 2012 Strategic Plan, NUREG-1614, Volume 4

AGENCY: Nuclear Regulatory Commission.

ACTION: Notice of availability.

SUMMARY: The Nuclear Regulatory Commission (NRC) is announcing the availability of draft NUREG-1614, Volume 4. “U.S. Nuclear Regulatory Commission, FY 2007-FY 2012 Strategic Plan,” dated July 2007. The comment period on the draft strategic plan ends September 7, 2007. Comments on the draft plan are to be submitted in electronic format (Microsoft Word) using e-mail to: StratPlan@nrc.gov or mail to Chief, Rules and Directives Branch, mail Stop T6-D59, Office of Administration, U.S. Nuclear Regulatory Commission, Washington, DC 20555-0001; or faxed to: Chief, Rules and Directives Branch at (301) 415-5144.

ADDRESSES: Draft NUREG-1614, Volume 4, is available for inspection and copying for a fee at the NRC Public Document Room, 11555 Rockville Pike, Rockville, Maryland. You may also electronically access NUREG-series publications and other NRC records at NRC's Public Electronic Reading Room at http://www.nrc.gov/reading-rm/doc-collections.

A free single copy of Draft NUREG-1614, Volume 4, to the extent of availability, may be requested by writing to the Office of the Chief Information Officer, Reproduction and Distribution Services Section, U.S. Nuclear Regulatory Commission, Printing and Graphics Branch, Washington, DC 20555-0001; facsimile: 301-415-2289; e-mail: DISTRIBUTION@nrc.gov.

Some publications in the NUREG series that are posted at NRC's Web site address http://www.nrc.gov/reading-rm/doc-collections are updated regularly and may differ from the last printed version.

FOR FURTHER INFORMATION CONTACT: George S. Smolik, Planning Team Chief, Division of Planning, Budget, and Analysis, Office of the Chief Financial Officer, U.S. Nuclear Regulatory Commission, Washington, DC 20555-0001; telephone: 301-415-7339.

SUPPLEMENTARY INFORMATION: The Government Performance and Results Act (GRPA) requires that an agency's strategic plan be updated for submission to the Congress and the President every three years. The NRC is developing a new strategic plan for FY 2007-FY 2012 to replace the agency's existing strategic plan.

The NRC is seeking comments on its draft FY 2007-FY 2012 Strategic Plan (ADAMS Accession No. ML072080203). The draft Strategic Plan establishes the agency's long-term strategic direction and outcomes. It provides a foundation to guide NRC's work and to allocate NRC's resources.

The NRC's draft FY 2007-FY 2012 Strategic Plan describes the agency's mission, vision, and strategic objective, which remain unchanged. The NRC's priority continues to be, as always, to ensure the adequate protection of public health, safety, and the environment, and promoting common defense and security.

The NRC's draft Strategic Plan also reflects the changes taking place in the regulatory environment associated with the use of radioactive materials, such as the expected receipt of applications to construct and operate new nuclear power plants, and the disposal of high-level radioactive waste. Further, the draft Strategic Plan addresses how the NRC will address these challenges, such as communications, human capital, and regulatory and organizational infrastructure.

The draft Strategic Plan identifies our two strategic goals, which focus on safety and security. The agency's Safety and Security goals, as well as their associated strategic outcomes, continue to accurately describe the agency's core functions, and therefore remain essentially unchanged. This focus on safety and security ensures that the NRC remains a strong independent, stable, and predictable regulator. The draft Strategic Plan also describes the agency's Organizational Excellence Objectives of Openness, Effectiveness, Timeliness, and Management, which characterize the manner in which the agency intends to support achieving the Safety and Security goals.

The NRC encourages all interested parties to comment on the draft Strategic Plan. The comment period ends September 7, 2007. Comments on the draft plan are to be submitted in electronic format (Microsoft Word) using e-mail to: StratPlan@nrc.gov or mailed to Chief, Rules and Directives Branch, mail Stop T6-D59, Office of Administration, U.S. Nuclear Regulatory Commission, Washington, DC 20555-0001; or faxed to: Chief, Rules and Directives Branch at (301) 415-5144. Stakeholder feedback will be valuable in helping the Commission develop a final plan that has the benefit of the many views in the regulated civilian nuclear industry.

The final version of NUREG-1614, Volume 4, is expected to be released on or about December 31, 2007.

Dated at Rockville, Maryland, this 2nd day of August 2007.
For the Nuclear Regulatory Commission.
Leslie W. Barnett,
Director, Division of Planning, Budget, and Analysis, Office of the Chief Financial Officer.

[FR Doc. E7-15479 Filed 8-7-07; 8:45 am]

BILLING CODE 7590-01-P